DEPARTMENT OF ENERGY

Federal Energy Regulatory Commission

[Project No. 3102-000]

Jason and Carol Victoria Presley; Notice of Authorization for Continued Project Operation

On September 12, 2017, Jason and Carol Victoria Presley, licensees for the High Shoals Hydroelectric Project No. 3102, filed a Notice of Intent to File Subsequent License Application for the project, and on November 1, 2017, they filed a Preliminary Application Document. On August 27, 2019, they filed a Notice of Intent to Surrender the project followed by an application for Surrender of License on November 7, 2019. The High Shoals Hydroelectric Project is located on the Apalachee River in Walton, Morgan, and Oconee Counties, Georgia.

The license for Project No. 3102 was issued for a period ending August 31, 2021. Section 15(a)(1) of the FPA, 16 U.S.C. 808(a)(1), requires the Commission, at the expiration of a license term, to issue from year-to-year an annual license to the then licensee(s) under the terms and conditions of the prior license until a new license is issued, or the project is otherwise disposed of as provided in section 15 or any other applicable section of the FPA. If the project's prior license waived the applicability of section 15 of the FPA, then, based on section 9(b) of the Administrative Procedure Act, 5 U.S.C. 558(c), and as set forth at 18 CFR 16.21(a), if the licensee of such project has filed an application for a subsequent license, the licensee may continue to operate the project in accordance with the terms and conditions of the license after the minor or minor part license expires, until the Commission acts on its application. If the licensee of such a project has not filed an application for a subsequent license, then it may be required, pursuant to 18 CFR 16.21(b), to continue project operations until the Commission issues someone else a license for the project or otherwise orders disposition of the project.

If the project is subject to section 15 of the FPA, notice is hereby given that an annual license for Project No. 3102 is issued to Jason and Carol Victoria Presley for a period effective September 1, 2021 through August 31, 2022 or until the issuance of a new license for the project or other disposition under the FPA, whichever comes first. If issuance of a new license (or other disposition) does not take place on or before August 31, 2022, notice is hereby given that, pursuant to 18 CFR 16.18(c), an annual license under section 15(a)(1) of the FPA is renewed automatically without further order or notice by the Commission, unless the Commission orders otherwise.

If the project is not subject to section 15 of the FPA, notice is hereby given that Jason and Carol Victoria Presley are authorized to continue operation of the High Shoals Hydroelectric Project, until such time as the Commission takes final action on the application for Surrender of License.

Dated: September 14, 2021.
Kimberly D. Bose,
Secretary.

[FR Doc. 2021-20275 Filed 9-17-21; 8:45 am]

BILLING CODE 6717-01-P